UNITED STATES POSTAL SERVICE BOARD OF GOVERNORS

Sunshine Act Meeting

Times and Dates: 1 p.m, Monday, August 5, 2002; 8:30 a.m., Tuesday, August 6, 2002.

Place: Washington, DC, at U.S. Postal Service Headquarters, 475 L'Enfant Plaza, SW., in the Benjamin Franklin Room.

Status: August 5-1 p.m. (Closed); August 6-8:30 a.m. (Open).

Matters To Be Considered:

Monday, August 5-1 p.m. (Closed)

1. Financial Performance.

2. Fiscal Year 2003 Establish/Deploy Report.

3. Preliminary Fiscal Year 2003 Integrated Financial Plan.

4. Strategic Planning.

5. Personnel Matters and Compensation Issues.

Tuesday, August 6-8:30 a.m. (Open)

1. Minutes of the Previous Meeting, July 1-2, 2002.

2. Remarks of the Postmaster General and CEO.

3. National Postal Forum Report.

4. Briefing on Pipe Bomb Investigation.

5. Fiscal Year 2002 Borrowing Resolution.

6. Financial the Postal System.

7. Capital Investments.

a. Fairfax, Virginia, Main Post Office.

b. Office of Inspector General—Office Space Additional Funding Request.

c. 76 automated Package Processing Systems.

8. Tentative Agenda for the September 5-6, 2002, meeting in Washington, D.C.

Contact Person for More Information: William T. Johnstone, Secretary of the Board, U.S. Postal Service, 475 L'Enfant Plaza, SW., Washington, DC 20260-1000. Telephone (202) 268-4800.

William T. Johnstone,
Secretary.

[FR Doc. 02-19275 Filed 7-25-02; 4:32 pm]

BILLING CODE 7710-12-M